DEPARTMENT OF ENERGY

Basic Energy Sciences Advisory Committee

AGENCY: Office of Science, Department of Energy.

ACTION: Notice of open meeting.

SUMMARY: This notice announces a virtual meeting of the Basic Energy Sciences Advisory Committee (BESAC). The Federal Advisory Committee Act requires that public notice of these meetings be announced in the Federal Register.

DATES: Tuesday, April 9, 2024; 10:00 a.m. to 5:30 p.m. EDT.

Wednesday, April 10, 2024; 10:00 a.m. to 3:00 p.m. EDT.

ADDRESSES: This meeting is open to the public. This meeting will be held virtually via Zoom. Information to participate can be found on the website closer to the meeting date at https://science.osti.gov/bes/besac/Meetings.

FOR FURTHER INFORMATION CONTACT: Kerry Hochberger; Office of Basic Energy Sciences; U.S. Department of Energy; Germantown Building, 1000 Independence Avenue SW, Washington, DC 20585; Telephone: (301) 903-7661 or email: kerry.hochberger@science.doe.gov.

SUPPLEMENTARY INFORMATION:

Purpose of the Committee: The purpose of this Committee is to make recommendations to DOE-SC concerning the basic energy sciences research program.

Tentative Agenda

Tuesday, April 9, 2024

• Call to Order, Introductions, Review of the Agenda

• Updates on 2023 BESAC Charges

• Update from the Office of Science

• Update from the Office of Basic Energy Sciences

• Panel Discussion: Scientific Progress in Biomolecular Materials

• Additional Discussions of 2023 BESAC Charges

• Public Comment

• Adjourn

Wednesday, April 10, 2024

• 2023 BESAC Facilities Charge Report-Out/Discussion

• Public Comment

• Adjourn

Breaks taken as appropriate.

Public Participation: The meeting is open to the public. A webcast of this meeting will be available. Please check the website below for updates and information on how to view the meeting. If you would like to file a written statement with the Committee, you may do so either before or after the meeting. If you would like to make oral statements regarding any of the items on the agenda, you should contact Kerry Hochberger at kerry.hochberger@science.doe.gov. You must request an oral statement at least five business days before the meeting. Reasonable provisions will be made to include the scheduled oral statements on the agenda. The Chairperson of the Committee will conduct the meeting to facilitate the orderly conduct of business. Public comment will follow the 10-minute rule. If you have any questions or need a reasonable accommodation under the Americans with Disabilities Act for this event, please send your request to Kerry Hochberger at kerry.hochberger@science.doe.gov two weeks but no later than 48 hours, prior to the event. Closed captions will be enabled. Information about the committee can be found at: https://science.osti.gov/bes/besac.

Minutes: The minutes of this meeting will be available for review on the U.S. Department of Energy's Office of Basic Energy Sciences website at: https://science.osti.gov/bes/besac/Meetings.

Signing Authority: This document of the Department of Energy was signed on March 7, 2024, by David Borak, Deputy Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on March 7, 2024.
Treena V. Garrett,
Federal Register Liaison Officer, U.S. Department of Energy.

[FR Doc. 2024-05243 Filed 3-11-24; 8:45 am]

BILLING CODE 6450-01-P